COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List commodities to be furnished by nonprofit agencies employing persons who are blind or have other severe disabilities.

COMMENTS MUST BE RECEIVED ON OR BEFORE: January 15, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in this notice for each commodity will be required to procure the commodities listed below from nonprofit agencies employing persons who are blind or have other severe disabilities. I certify that the following action will not have a significant impact on a substantial number of small entities. The major factors considered for this certification were:

1. The action will not result in any additional reporting, recordkeeping or other compliance requirements for small entities other than the small organizations that will furnish the commodities to the Government.

2. The action will result in authorizing small entities to furnish the commodities to the Government.

3. There are no known regulatory alternatives which would accomplish the objectives of the Javits-Wagner-O'Day Act (41 U.S.C. 46-48c) in connection with the commodities proposed for addition to the Procurement List. Comments on this certification are invited. Commenters should identify the statement(s) underlying the certification on which they are providing additional information. The following commodities are proposed for addition to the Procurement List for production by the nonprofit agencies listed:

Commodity

Liner, Low Density, Linear, Premium

8105-00-NIB-1149

8105-00-NIB-1150

8105-00-NIB-1151

8105-00-NIB-1152

8105-00-NIB-1153

8105-00-NIB-1154

8105-00-NIB-1155

8105-00-NIB-1156

8105-00-NIB-1157

8105-00-NIB-1158

8105-00-NIB-1159

8105-00-NIB-1160

8105-00-NIB-1161

8105-00-NIB-1162

8105-00-NIB-1163

8105-00-NIB-1164

8105-00-NIB-1165

8105-00-NIB-1166

8105-00-NIB-1167

8105-00-NIB-1168

8105-00-NIB-1169

8105-00-NIB-1170

8105-00-NIB-1171

8105-00-NIB-1172

8105-00-NIB-1173

8105-00-NIB-1174

8105-00-NIB-1175

8105-00-NIB-1176

8105-00-NIB-1177

8105-00-NIB-1178

NPA: Envision, Inc. Wichita, Kansas

Government Agency: Defense Supply Center, Philadelphia.

Gloves, Patient Examining

6515-01-365-6183

NPA: Bosma Industries for the Blind, Inc. Indianapolis, Indiana

Government Agency: GSA/Office Supplies and Paper Products Commodity Center.

Sheryl D. Kennerly,
Director, Information Management.

[FR Doc. 01-30921 Filed 12-13-01; 8:45 am]

BILLING CODE 6353-01-P